ENVIRONMENTAL PROTECTION AGENCY

40 CFR Part 147

[EPA-HQ-OW-2023-0073; FRL 9916-03-OW]

State of Louisiana Underground Injection Control Program; Class VI Program Revision Application; Notice of Availability of New Information

AGENCY: Environmental Protection Agency (EPA).

ACTION: Notice of availability; request for comment.

SUMMARY: This document supplements the proposed “State of Louisiana Underground Injection Control Program; Class VI Program Revision Application” rule of May 4, 2023, to approve a revision to the State's Safe Drinking Water Act (SDWA) section 1422 UIC program to include Class VI injection well primary enforcement responsibility (primacy). On June 30, 2023, the Louisiana Department of Natural Resources (LDNR) supplemented its Class VI primacy application to include Act No. 378 (HB 571), which revised portions of Louisiana law relevant to LDNR's application. On June 14, 2023, Act No. 378 was signed into law and went into effect during the comment period for EPA's proposal. This document presents and requests public comment on LDNR's supplement to its application, which was not available in the docket EPA-HQ-OW-2023-0073 at the time of the Environmental Protection Agency's (EPA) May 4, 2023, proposal.

DATES: Comments must be received on or before September 15, 2023.

ADDRESSES: You may send comments, identified by Docket ID No. EPA-HQ-OW-2023-0073, by any of the following methods:

• Federal eRulemaking Portal: https://www.regulations.gov/ (our preferred method). Follow the online instructions for submitting comments.

• Mail: U.S. Environmental Protection Agency, EPA Docket Center, Water Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: Suzanne Kelly, Drinking Water Infrastructure Development Division, Office of Ground Water and Drinking Water (4606M), Environmental Protection Agency, 1200 Pennsylvania Ave. NW, Washington, DC 20460; telephone number: (202) 564-3887; or Lisa Pham, U.S. EPA Region 6, Groundwater/UIC Section (Mail code WDDG), 1201 Elm Street, Suite 500, Dallas, Texas 75720-2102; telephone number: (214) 665-8326. Both can be reached by emailing: LAClassVINOA@epa.gov.

SUPPLEMENTARY INFORMATION:

I. Public Participation

A. Written Comments

Submit your comments, identified by Docket ID No. EPA-HQ-OW-2023-0073, at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. If you need to submit CBI, contact Lisa Pham, contact information available in the FOR FURTHER INFORMATION CONTACT section. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. General Information

This document presents LDNR's supplement to its primacy application regarding Louisiana State Act No. 378. This act was signed into law and went into effect on June 14, 2023, during the comment period for EPA's proposed rulemaking, “State of Louisiana Underground Injection Control Program; Class VI Program Revision Application” (88 FR 28450, May 4, 2023). LDNR thereafter supplemented its Class VI primacy application to incorporate the new act, which revised portions of Louisiana law relevant to LDNR's Class VI primacy application. In LDNR's letter supplementing its application, LDNR stated that it found that Act 378 had no substantive impact on its pending application. The purpose of this document is to provide public notice and the opportunity for comment specific to LDNR's supplement to its primacy application regarding Louisiana State Act No. 378, which was not available for public review and comment at the time of the proposal. EPA is not reopening the overall comment period for the Agency's proposed approval of Louisiana's Class VI primacy application. EPA continues to review the comments received on the Agency's proposed approval and will address those comments and the comments submitted in response to this document in the final action.

Act 378 revised portions of Louisiana law relevant to LDNR's Class VI primacy application. For instance, it codified a parish notification requirement for permit applications for Class VI wells (and Class V wells related to geologic sequestration of carbon dioxide). It also codified Class VI quarterly and twenty-four-hour reporting requirements. It also revised Louisiana's long term liability provision in Louisiana Revised Statute (LA R.S.) 30:1109. As mentioned in the May 4, 2023, proposal, EPA is aware that stakeholders have raised concerns about this provision. EPA has reviewed Act 378, including its revisions to the long-term liability provision at LA R.S. 30:1109, and continues to propose approving Louisiana's application for Class VI primacy. EPA has determined that the application as supplemented continues to meet all applicable requirements for approval under SDWA section 1422.

Persons interested in the Class VI UIC program established by the State of Louisiana, and its proposed incorporation under Section 1422 of the SDWA are encouraged to read the new information presented and respond to this document. Additionally, owners and operators, States, Tribes, and State co-regulators involved in geologic sequestration activities in Louisiana may also wish to comment on this publication. EPA is not reopening the overall comment period for the Agency's proposed approval of Louisiana's Class VI primacy application. EPA continues to review the comments received on the Agency's proposed rule approval and will address those comments and the comments submitted in response to this document in the final action.

Radhika Fox,
Assistant Administrator.

[FR Doc. 2023-17517 Filed 8-15-23; 8:45 am]

BILLING CODE 6560-50-P